NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 30, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-03-6, 2 items, 2 temporary items). Records used to determine manpower requirements for service-type contracts, including electronic copies of records created using electronic mail and word processing.

2. Department of the Army, Agency-wide (N1-AU-03-7, 4 items, 4 temporary items). Records relating to the nomination, selection/non-selection, and appointment of individuals to honorary regimental positions. Electronic copies of records created using electronic mail and word processing are included.

3. Department of the Army, Agency-wide (N1-AU-03-8, 3 items, 3 temporary items). Records relating to enlisted selection boards. Included are such records as selection board reporting files, promotion packets, and electronic copies of documents created using electronic mail and word processing. This schedule authorizes the agency to apply the proposed disposition instructions to any recordkeeping medium.

4. Department of the Army, Agency-wide (N1-AU-03-11, 3 items, 3 temporary items). Individual flight records, including aeronautical rating orders, flying status orders, suspension from flying status orders, qualification records, and reports of physical examinations. Electronic copies of records created using electronic mail and word processing are also included. The most current Individual Flight Record and Flight Certificate (Department of the Army Form 759) will be placed in the service member's Official Military Personnel File on separation.

5. Department of Defense, Office of the Inspector General (N1-509-03-3, 8 items, 6 temporary items). Records relating to the voluntary disclosure program, including program management files and case files lacking significance. Also included are electronic copies of documents created using electronic mail and word processing. Proposed for permanent retention are recordkeeping copies of policy files and significant case files.

6. Department of Justice, Drug Enforcement Administration (N1-170-03-3, 5 items, 5 temporary items). System inputs, outputs, master files, and documentation of the Hazardous Waste Disposal System, which is used to track the disposal of hazardous waste associated with clandestine drug laboratories and the funding of cleanup operations. Also included are electronic copies of documents created using electronic mail and word processing.

7. Department of the Navy, Agency-wide (N1-NU-03-1, 4 items, 4 temporary items). Records relating to security clearance adjudications accumulated by the Criminal Investigative Service, including electronic copies of records created using electronic mail and word processing.

8. Department of the Treasury, Office of the Assistant Secretary for Management and Chief Financial Officer (N1-56-03-4, 25 items, 20 temporary items). Committee files, collection loan files, and electronic tracking systems relating to equal employment opportunity complaints and human resource needs, artifacts and gifts, and graphics and printing work. Also included are electronic copies of records created using electronic mail and word processing. Proposed for permanent retention are recordkeeping copies of historical structure reports, artifact collection files, and project files accumulated by the Office of the Curator. Also proposed for permanent retention are Treasury building renovation project files and related quarterly reports.

9. Department of the Treasury, Bureau of the Public Debt (N1-53-03-5, 4 items, 4 temporary items). Agency web site pages, which include such materials as copies of official organizational publications, bulletin board postings, press releases, laws and guidance, savings bond calculators, and frequently asked questions.

10. Department of the Treasury, Bureau of the Public Debt (N1-53-03-6, 5 items, 3 temporary items). Motion picture films, video masters, video copies, and dubs regarding savings bond programs. Included are such materials as news stories, company-produced videos, infomercials, public service announcements, and focus group videos. Original films of historical savings bond program advertisements and campaigns are proposed for permanent retention.

11. Department of the Treasury, Bureau of the Public Debt (N1-53-03-7, 5 items, 5 temporary items). Inputs, outputs, system documentation, and master files of the Bureau Automated Tracking System, which is designed to track correspondence from customers requesting information or tracking transactions involving Treasury securities.

12. Department of the Treasury, Bureau of the Public Debt, (N1-53-03-8, 7 items, 7 temporary items). Records relating to securities and coupon shipments, audit copies of advices from automated systems, payment due notices, customer contact records, and Treasury securities case files. Also included are electronic copies of documents created using electronic mail and word processing.

13. Department of the Treasury, Bureau of the Public Debt (N1-53-03-9, 150 items, 150 temporary items). Inputs, outputs, system documentation, and master files of the Savings Bond Replacement System, which is used to process cash and security transactions resulting from the sale and retirement of accrual and retirement type securities.

14. Environmental Protection Agency, Office of Environmental Information (N1-412-03-7, 4 items, 4 temporary items). Software programs, inputs, documentation, and master files associated with an electronic system used to catalog metadata pertaining to the definition, sources, and uses of environmental data, including information relating to chemical identification, biological taxonomy, and associated terminology.

15. National Archives and Records Administration, Office of Records Services—Washington, DC (N1-64-03-2, 3 items, 1 temporary item). Raw input electronic files resulting from the conversion of microfilm images of punch cards of Army serial numbers to ASCII data files. Proposed for permanent retention are merged raw files and merged processed files.

16. Small Business Administration, Office of Government Contracting and Business Development (N1-309-03-1, 7 items, 5 temporary items). System inputs, outputs, and backups of the Technology Marketing Access Network, which contains demographic data and contract information on firms that have received awards under the Small Business Innovation Research and Small Business Technology Transfer Programs. Also included are electronic copies of documents created using electronic mail and word processing. Proposed for permanent retention are the master data files and the associated technical documentation.

17. Small Business Administration, Office of Government Contracting and Business Development (N1-309-03-3, 7 items, 5 temporary items). Inputs, outputs, and system backups of an electronic system used to approve businesses as eligible for assistance because they are located in “historically underutilized business zones.” Also included are electronic copies of documents created using electronic mail and word processing. Proposed for permanent retention are master files and the technical system documentation.

18. Small Business Administration, Office of Government Contracting and Business Development (N1-309-03-5, 11 items, 9 temporary items). Inputs, outputs, and system backups of an electronic system containing information on small businesses that is used for marketing their capabilities for contracts with the Federal Government and large businesses. Also included are electronic copies of documents created using electronic mail and word processing. Proposed for permanent retention are master data files and system documentation.

19. United States Office of Special Counsel, Agency-wide (N1-481-03-1, 23 items, 13 temporary items). Reading files, conflict of interest files, surveys, Alternative Dispute Resolution case files, program administrative files, litigation/investigative case files, and other records. Also included are electronic copies of records created using electronic mail and word processing. Proposed for permanent retention are recordkeeping copies of such records as final opinions, subject files, and calendars of the Special Counsel and Deputy Special Counsel, legal opinions, advisory opinions, record sets of directives, official publications, press releases, and significant litigation and investigative case files.

Dated: May 9, 2003.
Michael J. Kurtz,
Assistant Archivist for Record Services—Washington, DC.

[FR Doc. 03-12130 Filed 5-14-03; 8:45 am]

BILLING CODE 7515-01-P